DEPARTMENT OF JUSTICE

Antitrust Division

Notice Pursuant to the National Cooperative Research and Production Act of 1993—The National Advanced Mobility Consortium, Inc.

Notice is hereby given that, on October 17, 2022, pursuant to Section 6(a) of the National Cooperative Research and Production Act of 1993, 15 U.S.C. 4301 et seq. (“the Act”), The National Advanced Mobility Consortium, Inc. (“NAMC”) has filed written notifications simultaneously with the Attorney General and the Federal Trade Commission disclosing changes in its membership. The notifications were filed for the purpose of extending the Act's provisions limiting the recovery of antitrust plaintiffs to actual damages under specified circumstances. Specifically, American Engineering & Manufacturing Inc, Elyria, OH; American Material Handling, Inc., Watkinsville, GA; and Ametek | Spectro Scientific, Chelmsford, MA; Ametrine, Inc, Rockville, MD; AOM Engineering Solutions LLC, Dearborn Heights, MI; Array of Engineers, Grand Rapids, Mil; ATAP Inc, Eastaboga, AL; B&H International LLC, Bakersfield, CA; Beacon Interactive Systems, LLC, Waltham, MA; BH Technology LLC, Pomona, NY; Bokam Engineering Inc, Santa Ana, CA; Bounce Imaging, Buffalo, NY; Compass Instruments, Inc., Sugar Grove, IL; Compusult Systems Inc., Chantilly, VA; DataRobot, Boston, MA; Decisive Edge LLC, Bradenton, FL; Dynamic Software Solutions, Niceville, FL; Enginuity Power Systems, Alexandria, VA; Falex Corporation, Sugar Grove, IL; FIDELIUM, LLC, Virginia Beach, VA; Future Tense LLC dba CalypsoAI Labs, Richmond, VA; GaN Corporation, Huntsville, AL; GC Associates USA LLC, Arlington, VA; GTA Containers, South Bend, IN; Hypergiant Galactic Systems, Inc., Austin, TX; Indiana Mills & Manufacturing, Inc. (IMMI), Westfield, IN; Insight International Technology LLC, Huntsville, AL; Intelligent Fusion Technology, Inc., Germantown, MD; Iten Defense LLC, Ashtabula, OH; Kevin Diaz, Niceville, FL; Kongsberg Protech Systems USA Corporation, Johnstown, PA; krtkl inc., San Francisco, CA; L3Harris Technologies | Link Training & Simulation, ARLINGTON, TX; L3 Technologies Inc. Communication Systems West Operating, Salt Lake City, UT; Leading Technology Composites, Wichita, KS; Logistic Services International, Inc., Jacksonville, FL; Merrill Aviation & Defense, Saginaw, MI; Northrop Grumman Systems Corporation, Linthicum Heights, MD; O'Gara-Hess & Eisenhardt Armoring Company LLC, Fairfield, OH; Patriot Products Inc, Franklin, IN; QinetiQ, Inc., Lorton, VA; Qualtech Systems, Inc., Rocky Hill, CT; Rajant Corporation, Malvern, PA; Real-Time Analyzers, Inc., Middletown, CT; Red Berry Innovations, Inc., Springfield, NE; Robotire, Inc., Canton, MI; Secmation, LLC, Raleigh, NC; Sekai Electronics, Inc., Irvine, CA; ServiceNow, Santa Clara, CA; Siemens Government Technologies, Inc., Reston, VA; Silicon Forest Electronics, Vancouver, WA; Solar Stik Inc., Saint Augustine, FL; SparkCognition Government Systems, Inc., Austin, TX; Tangram Flex, Dayton, OH; Telefactor Robotics, West Conshohocken, PA; The Will-Burt Company, Orrville, OH; Ultra Electronics ICE, Inc., Manhattan, KS; Vertex Aerospace LLC, Madison, MS; VISIMO, Coraopolis, PA; Wescam USA, Inc, Santa Rosa, CA; and ZMicro Inc, San Diego, CA, have been added as parties to this venture.

Also, Acellent Technologies Inc., Sunnyvale, CA; Advanced Ground Information Systems (AGIS), Inc., Jupiter, FL; Aeryon Defense USA, Inc., Denver, CO; Agility Robotics Inc., Pittsburgh, PA; ANSYS, Inc. (formerly DfR Solutions LLC), Canonsburg, PA; Aquabotix Technology Corporation, Jamestown, RI; Arconic Defense Inc. (formerly Alcoa Defense Inc.), Canonsburg, PA; Ascent Vision Technologies, LLC, Belgrade, MT; Auctus Blue LLC, Saint Petersburg, FL; Aurora Flight Sciences Corporation, Manassas, VA; Automotive Insight, LLC, Troy, MI; Autonomous Solutions, Inc., Mendon, UT; Baker Engineering, LLC, Nunica, MI; Ball Aerospace, Fairborn, OH; Battelle Energy Alliance LLC, Idaho Falls, ID; Battelle Memorial Institute, Columbus, OH; Black Diamond Structures, LLC, Austin, TX; Blue Force Technologies, Inc., Morrisville, NC; Chemring Sensors & Electronic Systems (formerly NIITEK, Inc.), Charlotte, NC; CIGNYS, Saginaw, MI; Coda Octopus Colmek, Inc., Murray, UT; CogniTech Corporation, Salt Lake City, UT; Continental Mapping, Sun Prairie, WI; Continuous Solutions LLC, Portland, OR; Convergent3D, LLC, Mount Pleasant, SC; Danlaw Inc., Novi, MI; Defense Acquisition & Contracting Solutions LLC (DACS), Southport, NC; Design Automation Associates, Inc., Windsor Locks, CT; Dynamic Software Solutions, Inc. (DS2), Niceville, FL; Eckhart, Deerfield, IL; Envision Technology, LLC, Manchester, NH; Flex Force Enterprises Inc., Portland, OR; Flugauto Inc., Brighton, MI; Gentex Corporation, Boston, MA; Geodetics, Inc., San Diego, CA; GLX Power Systems Inc., Chargin Falls, OH; Great Lakes Waterjet and Laser, Albion, MI; Hippo Power LLC, Riverside, MO; Honeybee Robotics, New York, NY; Honeycomb Networks, Inc., Grant, AL; HORIBA Instruments, Inc., Ann Arbor, MI; Iguana Technology LLC, Tillamook, OR; Innovative Manufacturing Engineering LLC (I:ME), Livonia, MI; Intevac Photonics, Inc., Santa Clara, CA; JTEK Data Solutions, LLC, Bethesda, MD; Kairos Autonomi, Inc., Sandy, UT; L3 Technologies, Inc. (Communication Systems-West), Salt Lake City, UT; LINE-X LLC, Houston, TX; MAHLE Industrial Thermal Systems America LP, Belmont, MI; Manufacturing Techinques, Inc. MTEQ, Lorton, VA; Maritime Applied Physics Corporation, Baltimore, MD; Martin Defense Group LLC (formerly Navatek, LLC), Honolulu, HI; Mattracks, Inc., Karlstad, MN; Mawashi Science & Technology, Cape Coral, FL; MBD Prop, Farmington, MI; McLaughlin Body Company, Moline, IL; MGS Incorporated, Denver, PA; Morgan 6 LLC, Charleston, SC; Motiv Space Systems, Inc., Pasadena, CA; MRIGlobal Kansas City, MO; New Frontier Aerospace, Livermore, CA; NewSoTech, Inc., Ashburn, VA; Parsons Government Services, Inc., Pasadena, CA; Parts Life Inc., Moorestown, NJ; Peregrine Technical Solutions, LLC, Yorktown, VA; Phoenix Integration Inc., Novi, MI; Polymule, Inc., Lehi, UT; Protective Technologies Group, Inc., Fallbrook, CA; Ravn, San Francisco, CA; Rhoman Aerospace Corporation, Los Angeles, CA; Riptide Software, Oviedo, FL; Rose-A-Lee Technologies, Inc., Sterling Heights, MI; Sciaky, Chicago, IL; Sea Machine Robotics, East Boston, MA; SEA, Ltd., Columbus, OH; Secord Solutions LLC, Grosse Ile, MI; Seiler Instrument, St. Louis, MO; Shift5, Inc., Rosslyn, VA; Sixgen, Inc., Annapolis, MD; South Dakota School of Mines and Technology, Rapid City, SD; ST Engineering North America Government, Huntsville, AL; Stark Aerospace, Columbus, MS; STS International, Inc., Berkeley Springs, WV; Subsystem Technologies Inc., Arlington, VA; Supreme Gear Company, Inc., Fraser, MI; Tactonomy, Huntsville, AL; Teledyne Brown Engineering, Inc., Huntsville, AL; Telefactor Robotics LLC, West Conshohocken, PA; The Advent Group, LLC (TAG), Pontiac, MI; The Spectrum Group LLC, Alexandria, VA; Tribalco, LLC, Bethesda, MD; Troika Solutions, LLC, Reston, VA; Tuskegee University, Tuskegee, AL; UHV Technologies, Inc., Lexington, KY; United CNC Machining, Auburn Hills, MI; University of Arkansas, College of Engineering, Fayetteville, AR; University of Iowa, Iowa City, IA; University of Wisconsin-Milwaukee, Milwaukee, WI; Vecna Technologies, Inc., Cambridge, MA; Womack Machine Supply Company, Farmers Branch, TX; Wyle Laboratories, Inc., Huntsville, AL; xCraft Enterprises, Inc., Coeur d/Alene, ID; and Yates Industries, Inc., St Clair Shores, MI, have withdrawn as parties to this venture.

No other changes have been made in either the membership or planned activity of the group research project. Membership in this group research project remains open, and NAMC intends to file additional written notifications disclosing all changes in membership.

On October 15, 2009, NAMC filed its original notification pursuant to Section 6(a) of the Act. The Department of Justice published a notice in the Federal Register pursuant to Section 6(b) of the Act on November 30, 2009 (74 FR 62599).

The last notification was filed with the Department on November 5, 2021. A notice was published in the Federal Register pursuant to Section 6(b) of the Act on November 26, 2021 (86 FR 67494-67495).

Catherine Reilly,
Counsel for Civil Operations, Antitrust Division.

[FR Doc. 2022-24268 Filed 11-7-22; 8:45 am]

BILLING CODE P